Title 3—

The President

Proclamation 10242 of August 31, 2021

National Childhood Cancer Awareness Month, 2021

By the President of the United States of America

A Proclamation

For millions of American families—including my own—the fight against cancer is personal. When a person you love is diagnosed with cancer, it stops your heart and throws your world off of its axis. That fear and heartache is only compounded when cancer strikes a child.

Across America, thousands of courageous children and adolescents diagnosed with cancer each year are facing life-threatening struggles. They are cared for by loving families, friends, volunteers, and health care teams who band together to support our most vulnerable patients as they face their cancer journey. During National Childhood Cancer Awareness Month, we honor the young lives taken too soon, as well as the growing number of young cancer survivors, some of whom may face serious health challenges throughout their lifetimes. We recognize the remarkable progress made in treatment and survivorship, and rededicate ourselves to the development of more effective therapies so that all children have the chance to live long and healthy lives.

Despite the extraordinary advancements medical science has made in recent years, cancer remains the second leading cause of death in the United States—and the leading cause of death by disease for American children between infancy and age 15. Cancer is cruel and spares no age. It inflicts an incalculable toll on young patients and their loved ones. Though improvement has been made in some areas, survival rates for all childhood cancers remain too low. A growing number of childhood cancer survivors are experiencing longer life expectancies, but far too many continue to face significant long-term physical, emotional, and cognitive effects due to their cancer and treatment. As a Nation, we must do more to better understand the causes of pediatric cancer, improve treatment, and enhance the lifelong well-being of survivors.

When I lost my son Beau to cancer after his courageous fight, I buried a part of my soul deep in the Earth. Too many families know that feeling too well—at any age, it leaves a black hole in your heart. In 2016, President Obama and I created the Cancer Moonshot Initiative to end cancer as we know it. Now, as President, I remain committed to that mission—and I will continue to invest in the critical research and care needed to defeat this devastating disease. That is why I am asking the Congress to launch the Advanced Research Projects Agency for Health—or ARPA-H—at the National Institutes of Health, to develop breakthroughs that prevent, detect, and treat cancer and other deadly diseases.

Our Nation is already seeing the progress of investing in pediatric cancer research and technology. We are improving our understanding of pediatric cancers that are particularly difficult to treat, and extending the promise of immune-based treatments for children and adolescents. We are seeing advancements in precision medicine approaches to treating childhood cancers—including progress on understanding how tumors respond to existing therapies. The National Cancer Institute (NCI) is leading the Childhood Cancer Data Initiative, which brings together the Nation's childhood cancer research, advocacy, and care communities to ensure that we “learn from every child” with cancer by consistently gathering data in a way that protects patient privacy while allowing for rapid sharing of insights among researchers. This will enable us to accelerate progress and deliver effective treatments and cures to more children. Additionally, the Food and Drug Administration's Pediatric Oncology program works with stakeholders to accelerate and support the timely, efficient development of safe and effective new drugs and biological products to treat cancers in children.

Many parents and family members feel terrified and overwhelmed following a child's cancer diagnosis. To support families and pediatric caretakers, the NCI has resources available, including online and print materials and videos, to help families understand treatment options and provide information to help them navigate the cancer journey. Visit www.cancer.gov to learn more or talk to trained information specialists with the NCI Cancer Information Service in the United States at 1-800-4-CANCER.

My Administration is also committed to protecting childhood cancer patients and their families through the Affordable Care Act, which provides critical protections for individuals facing cancer, including children. Because of the Affordable Care Act, most insurance companies are now prohibited from limiting or denying coverage to young cancer patients participating in clinical research studies. And children who have recovered from cancer can no longer be denied insurance coverage based on the fact that they have a pre-existing condition.

During National Childhood Cancer Awareness Month, we pay tribute to the health care professionals, researchers, private philanthropies, social support organizations, and patient advocacy groups who work together with families across the country to provide hope and help to children diagnosed with cancer and to develop better treatments. Together, we will carry on their work—and build a future in which cancer no longer threatens the lives of our Nation's children.

NOW, THEREFORE, I, JOSEPH R. BIDEN JR., President of the United States of America, by virtue of the authority vested in me by the Constitution and the laws of the United States, do hereby proclaim September 2021 as National Childhood Cancer Awareness Month. I encourage citizens, government agencies, private businesses, nonprofit organizations, the media, and other interested groups to increase awareness of what Americans can do to support the fight against childhood cancer.

IN WITNESS WHEREOF, I have hereunto set my hand this thirty-first day of August, in the year of our Lord two thousand twenty-one, and of the Independence of the United States of America the two hundred and forty-sixth.

[FR Doc. 2021-19323

Filed 9-2-21; 11:15 am]

Billing code 3295-F1-P